OFFICE OF PERSONNEL MANAGEMENT

Submission for OMB Review; Comment Request for Extension, Without Change, of a Currently Approved Information Collection: RI 38-45

AGENCY: Office of Personnel Management.

ACTION: Notice.

SUMMARY: In accordance with the Paperwork Reduction Act of 1995 (Public Law 104-13, May 22, 1995), this notice announces that the Office of Personnel Management (OPM) has submitted to the Office of Management and Budget (OMB) a request for extension, without change, of a currently approved information collection. RI 38-45, We Need the Social Security Number of the Person Named Below, is used by the Civil Service Retirement System and the Federal Employees Retirement System to identify the records of individuals with similar or the same names. It is also needed to report payments to the Internal Revenue Service.

Approximately 3,000 RI 38-45 forms will be completed annually. Each form requires approximately 5 minutes to complete. The annual estimated burden is 250 hours.

For copies of this proposal, contact Mary Beth Smith-Toomey on (202) 606-8358, FAX (202) 418-3251 or via E-mail to MaryBeth.Smith-Toomey@opm.gov. Please include a mailing address with your request.

DATES: Comments on this proposal should be received within 30 calendar days from the date of this publication.

ADDRESSES: Send or deliver comments to—

Ronald W. Melton,

Deputy Assistant Director,

Retirement Services Program,

Center for Retirement and Insurance Services,

U.S. Office of Personnel Management,

1900 E Street, NW., Room 3305,

Washington, DC 20415-3500;

and

Brenda Aguilar,

OPM Desk Officer,

Office of Information & Regulatory Affairs,

Office of Management and Budget,

New Executive Office Building, NW.,

Room 10235,

Washington, DC 20503.

For Information Regarding Administrative Coordination—Contact: Cyrus S. Benson, Team Leader, Publications Team, RIS Support Services/Support Group, (202) 606-0623.

Office of Personnel Management.
Howard Weizmann,
Deputy Director.

[FR Doc. E8-10356 Filed 5-8-08; 8:45 am]

BILLING CODE 6325-38-P